DEPARTMENT OF ENERGY

Federal Energy Regulatory Commission

Combined Notice of Filings #2

January 29, 2009.

Take notice that the Commission has received the following Natural Gas Pipeline Rate and Refund Report filings:

Docket Numbers: RP09-280-000.

Applicants: Midwestern Gas Transmission Company.

Description: Midwestern Gas Transmission Company submits Twelfth Revised Sheet 5 et al., to FERC Gas Tariff, Original Volume 1, to be effective 2/1/09.

Filed Date: 01/26/2009.

Accession Number: 20090127-0197.

Comment Date: 5 p.m. Eastern Time on Monday, February 9, 2009.

Docket Numbers: RP09-281-000.

Applicants: Energy West Development, Inc.

Description: Energy West Development, Inc., submits Third Revised Sheet 23 et al., to FERC Gas Tariff, Volume 1, to be effective 2/26/09.

Filed Date: 01/26/2009.

Accession Number: 20090127-0198.

Comment Date: 5 p.m. Eastern Time on Monday, February 9, 2009.

Docket Numbers: RP09-282-000.

Applicants: Tennessee Gas Pipeline Company.

Description: Tennessee Gas Pipeline Company submits Fourth Revised Sheet 325 et al., to FERC Gas Tariff, Fifth Revised Volume 1.

Filed Date: 01/26/2009.

Accession Number: 20090127-0199.

Comment Date: 5 p.m. Eastern Time on Monday, February 09, 2009.

Docket Numbers: RP09-283-000.

Applicants: Iroquois Gas Transmission System, LP.

Description: Iroquois Gas Transmission System, LP submits Thirty First Revised Sheet 4 et al., to FERC Gas Tariff, First Revised Volume 1, to be effective 1/27/09.

Filed Date: 01/26/2009.

Accession Number: 20090127-0317.

Comment Date: 5 p.m. Eastern Time on Monday, February 9, 2009.

Docket Numbers: RP09-284-000.

Applicants: El Paso Natural Gas Company.

Description: El Paso Natural Gas Company submits Ninth Revised Sheet 214A et al., to FERC Gas Tariff, Second Revised Volume 1A.

Filed Date: 01/26/2009.

Accession Number: 20090127-0318.

Comment Date: 5 p.m. Eastern Time on Monday, February 9, 2009.

Docket Numbers: RP09-285-000.

Applicants: Central Kentucky Transmission Company.

Description: Central Kentucky Transmission Company submits First Revised Sheet 134 et al., to FERC Gas Tariff, Second Revised Volume 1.

Filed Date: 01/26/2009.

Accession Number: 20090127-0320.

Comment Date: 5 p.m. Eastern Time on Monday, February 9, 2009.

Docket Numbers: RP09-286-000.

Applicants: Crossroads Pipeline Company.

Description: Crossroads Pipeline Company submits Second Revised Sheet 176 et al., to FERC Gas Tariff, Second Revised Volume 1, to be effective 2/26/09.

Filed Date: 01/26/2009.

Accession Number: 20090127-0319.

Comment Date: 5 p.m. Eastern Time on Monday, February 9, 2009.

Docket Numbers: RP09-287-000.

Applicants: Young Gas Storage Company, Ltd.

Description: Young Gas Storage Company, Ltd., submits Second Revised Sheet 53A et al., to FERC Gas Tariff, Original Volume 1.

Filed Date: 01/26/2009.

Accession Number: 20090127-0321.

Comment Date: 5 p.m. Eastern Time on Monday, February 9, 2009.

Docket Numbers: RP09-288-000.

Applicants: Southern Natural Gas Company.

Description: Southern Natural Gas Company submits Seventieth Revised Sheet 14 et al., to FERC Gas Tariff, Seventh Revised Volume 1.

Filed Date: 01/26/2009.

Accession Number: 20090127-0322.

Comment Date: 5 p.m. Eastern Time on Monday, February 9, 2009.

Docket Numbers: RP09-289-000.

Applicants: Columbia Gas Transmission, LLC.

Description: Columbia Gas Transmission, LLC submits Second Revised Sheet 131 et al., to FERC Gas Tariff, Second Revised Volume 1.

Filed Date: 01/26/2009.

Accession Number: 20090127-0324.

Comment Date: 5 p.m. Eastern Time on Monday, February 9, 2009.

Docket Numbers: RP09-290-000.

Applicants: Black Marlin Pipeline Company.

Description: Black Marlin Pipeline Company submits Fifth Revised Sheet 213 et al., to FERC Gas Tariff, First Revised Volume 1.

Filed Date: 01/26/2009.

Accession Number: 20090127-0323.

Comment Date: 5 p.m. Eastern Time on Monday, February 9, 2009.

Docket Numbers: RP09-291-000.

Applicants: Discovery Gas Transmission LLC.

Description: Discovery Gas Transmission LLC submits Fifth Revised Sheet 151 et al., to FERC Gas Tariff, Original Volume 1.

Filed Date: 01/26/2009.

Accession Number: 20090127-0325.

Comment Date: 5 p.m. Eastern Time on Monday, February 9, 2009.

Docket Numbers: RP09-292-000.

Applicants: Dominion South Pipeline Company, LP.

Description: Dominion South Pipeline Company, LP, submits First Revised Sheet 1043 et al., to FERC Gas Tariff, Original Volume 1.

Filed Date: 01/26/2009.

Accession Number: 20090127-0131.

Comment Date: 5 p.m. Eastern Time on Monday, February 9, 2009.

Docket Numbers: RP09-293-000.

Applicants: Dominion Cove Point LNG, LP.

Description: Dominion Cove Point LNG, LP, submits Fourth Revised Sheet 72 et al., to FERC Gas Tariff, Original Volume 1.

Filed Date: 01/26/2009.

Accession Number: 20090127-0130.

Comment Date: 5 p.m. Eastern Time on Monday, February 9, 2009.

Docket Numbers: RP09-294-000.

Applicants: Columbia Gas Transmission, LLC.

Description: Columbia Gas Transmission, LLC submits Seventh Revised Sheet 351 et al., to FERC Gas Tariff, Second Revised Volume 1.

Filed Date: 01/26/2009.

Accession Number: 20090127-0129.

Comment Date: 5 p.m. Eastern Time on Monday, February 9, 2009.

Docket Numbers: RP09-295-000.

Applicants: Colorado Interstate Gas Company.

Description: Colorado Interstate Gas Company submits Sixth Revised Sheet 241A et al., to FERC Gas Tariff, First Revised Volume 1.

Filed Date: 01/26/2009.

Accession Number: 20090127-0128.

Comment Date: 5 p.m. Eastern Time on Monday, February 9, 2009.

Docket Numbers: RP09-296-000.

Applicants: Carolina Gas Transmission Corporation.

Description: Carolina Gas Transmission Corporation submits revised tariff sheets as part of Carolina Gas Transmission Corporation, FERC Gas Tariff, Original Volume 1.

Filed Date: 01/26/2009.

Accession Number: 20090127-0127.

Comment Date: 5 p.m. Eastern Time on Monday, February 9, 2009.

Docket Numbers: RP09-297-000.

Applicants: Gulfstream Natural Gas System, L.L.C.

Description: Gulfstream Natural Gas System, LLC, submits Second Revised Sheet 176 et al., to its FERC Gas Tariff, Original Volume 1, to be effective 2/26/09.

Filed Date: 01/26/2009.

Accession Number: 20090127-0125.

Comment Date: 5 p.m. Eastern Time on Monday, February 9, 2009.

Docket Numbers: RP09-298-000.

Applicants: Egan Hub Storage, LLC.

Description: Egan Hub Storage, LLC, submits Second Revised Sheet 113 et al., to be effective 2/26/09.

Filed Date: 01/26/2009.

Accession Number: 20090127-0126.

Comment Date: 5 p.m. Eastern Time on Monday, February 9, 2009.

Docket Numbers: RP09-299-000.

Applicants: Wyoming Interstate Company, Ltd.

Description: Wyoming Interstate Company, Ltd, submits Seventh Revised Sheet 54A et al., to be effective 2/25/09.

Filed Date: 01/26/2009.

Accession Number: 20090127-0124.

Comment Date: 5 p.m. Eastern Time on Monday, February 9, 2009.

Docket Numbers: RP09-300-000.

Applicants: Cheyenne Plains Gas Pipeline Company, LLP.

Description: Cheyenne Plains Gas Pipeline Company, LLP, submits Second Revised Sheet 315 et al., effective 2/25/09.

Filed Date: 01/26/2009.

Accession Number: 20090127-0123.

Comment Date: 5 p.m. Eastern Time on Monday, February 9, 2009.

Docket Numbers: RP09-301-000.

Applicants: Gulf South Pipeline Company, LP.

Description: Gulf South Pipeline Company, LP, submits Second Revised Sheet 3600 et al., to FERC Gas Tariff, Sixth Revised Volume 1, to be effective 3/1/09.

Filed Date: 01/26/2009.

Accession Number: 20090128-0101.

Comment Date: 5 p.m. Eastern Time on Monday, February 9, 2009.

Docket Numbers: RP09-302-000.

Applicants: Tuscarora Gas Transmission Company.

Description: Tuscarora Gas Transmission Company submits revised tariff sheets to be part of its FERC Gas Tariff, Original Volume 1.

Filed Date: 01/26/2009.

Accession Number: 20090128-0104.

Comment Date: 5 p.m. Eastern Time on Monday, February 9, 2009.

Docket Numbers: RP09-303-000.

Applicants: Gulf Crossing Pipeline Company LLC.

Description: Gulf Crossing Pipeline, Company LLC submits First Revised Sheet 1050 et al., to FERC Gas Tariff, Original Volume 1.

Filed Date: 01/26/2009.

Accession Number: 20090128-0103.

Comment Date: 5 p.m. Eastern Time on Monday, February 9, 2009.

Docket Numbers: RP09-304-000.

Applicants: Texas Gas Transmission, LLC.

Description: Texas Gas Transmission, LLC, submits First Revised Sheet 2800 et al., to FERC Gas Tariff, Third Revised Volume 1.

Filed Date: 01/26/2009.

Accession Number: 20090128-0102.

Comment Date: 5 p.m. Eastern Time on Monday, February 9, 2009.

Docket Numbers: RP09-305-000.

Applicants: Texas Gas Transmission, LLC.

Description: Texas Gas Transmission, LLC, submits a report which compares cash-out revenues with cash-out costs incurred for the annual billing period of 11/1/07-10/31/08.

Filed Date: 01/27/2009.

Accession Number: 20090128-0224.

Comment Date: 5 p.m. Eastern Time on Monday, February 9, 2009.

Docket Numbers: RP09-306-000.

Applicants: Kern River Gas Transmission Company.

Description: Kern River Gas Transmission Co., submits Eighth Revised Sheet 140 et al., to FERC Gas Tariff, Second Revised Volume 1 to be effective 7/30/08.

Filed Date: 01/27/2009.

Accession Number: 20090128-0225.

Comment Date: 5 p.m. Eastern Time on Monday, February 09, 2009.

Docket Numbers: RP09-307-000.

Applicants: Gulf States Transmission Corporation.

Description: Gulf States Transmission Corp., submits Fourth Revised Sheet 58J et al., to FERC Gas Tariff, Original Volume 1 to be effective 3/1/09.

Filed Date: 01/27/2009.

Accession Number: 20090128-0223.

Comment Date: 5 p.m. Eastern Time on Monday, February 9, 2009.

Docket Numbers: RP09-308-000.

Applicants: Rockies Express Pipeline LLC.

Description: Rockies Express Pipeline, LLC, submits Second Revised Sheet 1 et al., to FERC Gas Tariff, Second Revised Volume 1.

Filed Date: 01/27/2009.

Accession Number: 20090128-0222.

Comment Date: 5 p.m. Eastern Time on Monday, February 9, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-2347 Filed 2-3-09; 8:45 am]

BILLING CODE 6717-01-P